DEPARTMENT OF LABOR

Occupational Safety and Health Administration

[Docket No. OSHA-2007-0011]

Federal Advisory Council on Occupational Safety and Health

AGENCY: Occupational Safety and Health Administration (OSHA), Labor.

ACTION: Request for nominations.

SUMMARY: The Assistant Secretary of Labor for Occupational Safety and Health invites interested parties to submit nominations for membership on the Federal Advisory Council on Occupational Safety and Health (FACOSH).

DATES: Nominations for FACOSH must be received by January 9, 2008: You may submit nominations for FACOSH, identified by Docket No. OSHA-2007-0011, by any of the following methods:

Electronically: Nominations, including attachments, may be submitted electronically at http://www.regulations.gov, the Federal eRulemaking Portal. Follow the online instructions for submitting nominations.

Facsimile: If your nomination, including attachments, does not exceed 10 pages, you may fax it to the OSHA Docket Office at (202) 693-1648.

Mail, express delivery, hand delivery, messenger or courier service: Submit three copies of your nomination to the OSHA Docket Office, Room N-2625, U.S. Department of Labor, 200 Constitution Avenue, NW., Washington, DC 20210; telephone (202) 693-2350 (TTY number (877) 889-5627). Deliveries (hand, express mail, messenger and courier service) are accepted during the Department of Labor's and Docket Office's normal business hours, 8:15 a.m.-4:45 p.m., e.t.

Instructions: All nominations for FACOSH must include the Agency name and docket number for this Federal Register notice (Docket No. OSHA-2007-0011). All submissions in response to this Federal Register notice, including personal information provided, will be posted without change at http://www.regulations.gov. Therefore, OSHA cautions interested parties about submitting personal information such as social security numbers and birth dates. Because of security-related procedures, submitting nominations by regular mail may result in a significant delay in their receipt. Please contact the OSHA Docket Office, at the address above, for information about security procedures for submitting nominations by hand delivery, express delivery, and messenger or courier service. For additional information on submitting nominations, see the SUPPLEMENTARY INFORMATION section below.

Docket: To read or download submissions, go to http://www.regulations.gov. All documents in the docket are listed in the http://www.regulations.gov index. Although listed in the index, some documents (e.g., copyrighted material) are not publicly available to read or download through http://www.regulations.gov. All submissions, including copyrighted material, are available for inspection and copying at the OSHA Docket Office at the address above.

FOR FURTHER INFORMATION CONTACT: Ms. Diane Brayden, Director, OSHA, Office of Federal Agency Programs, Room N-3622, U.S. Department of Labor, 200 Constitution Avenue, NW., Washington, DC 20210; telephone (202) 693-2122; fax (202) 693-1685; e-mail ofap@dol.gov.

SUPPLEMENTARY INFORMATION: The Assistant Secretary of Labor for Occupational Safety and Health invites interested parties to submit nominations for membership on FACOSH. FACOSH is authorized to advise the Secretary of Labor on all matters relating to the occupational safety and health of Federal employees (Occupational Safety and Health Act of 1970 (29 U.S.C. 668), 5 U.S.C. 7902, Executive Order 13446). This includes providing advice on how to reduce and keep to a minimum the number of injuries and illnesses in the Federal workforce and how to encourage the establishment and maintenance of effective occupational safety and health programs in each Federal department and agency.

FACOSH is comprised of 16 members, who the Secretary of Labor appoints, and is chaired by the Assistant Secretary. The composition of FACOSH and the number of new members to be appointed at this time are as follows:

• Eight members are management representatives from Federal departments or agencies. Three management representatives will be appointed; and

• Eight members are representatives of labor organizations representing Federal employees. Three labor representatives will be appointed.

FACOSH members serve staggered three-year terms, unless the member becomes unable to serve, resigns, ceases to be qualified to serve, or is removed by the Secretary. The Secretary may appoint FACOSH members to successive terms. FACOSH meets between two and six times annually for one-day meetings.

Interested parties may nominate one or more qualified persons for membership. Others are invited and encouraged to submit endorsements in support of particular nominees. Nominations must include the nominee's name, occupation, current position, and contact information. The nomination also must identify the category of membership for which the nominee is qualified and a resume of the nominee's background, experience and qualifications for membership. In addition, the nomination must include a statement that the nominee is aware of the nomination, willing to serve a three-year term, and attend meetings regularly.

The information received through the nomination process, along with other relevant sources of information, will assist the Secretary in making appointments to FACOSH. In selecting FACOSH members, the Secretary will consider individuals nominated in response to this Federal Register notice, as well as other qualified individuals. OSHA will publish the new FACOSH membership list in the Federal Register.

Public Participation—Submission of Nominations and Access to Docket

You may submit nominations (1) electronically at http://www.regulations.gov; (2) by facsimile (FAX); or (3) by hard copy. All comments, attachments and other materials must identify the Agency name and the OSHA docket number for this Federal Register notice (Docket No. OSHA 2007-0011). You may supplement electronic nominations by uploading document files electronically. If, instead, you wish to submit hard copies of any additional material in reference to an electronic submission, you must submit three copies to the OSHA Docket Office following the instructions in the ADDRESSES section. The additional material must clearly identify your electronic submission by name, date, and docket number so OSHA can attach them to your nomination.

Because of security-related procedures, the use of regular mail may result in a significant delay in the receipt of nominations. For information about security procedures concerning the delivery of materials by hand, express delivery, messenger or courier service, please contact the OSHA Docket Office (see ADDRESSES section).

Submissions in response to this Federal Register notice are posted without change at http://www.regulations.gov. Therefore, OSHA cautions interested parties about submitting personal information such as social security numbers and birth dates. Although all submissions are listed in the http://www.regulations.gov index, some documents (e.g., copyrighted material) are not publicly available to read or download through http://www.regulations.gov. All submissions, including copyrighted material, are available for inspection and copying at the OSHA Docket Office.

Information on using the http://www.regulations.gov website to make submissions and to access the docket and exhibits is available at the Web site's User Tips link. Contact the OSHA Docket Office for information about materials not available through http://www.regulations.gov and for assistance in using the Internet to locate submissions and other documents in the docket.

Electronic copies of this Federal Register notice are available at http://www.regulations.gov. This notice, as well as news releases and other relevant information, is available at OSHA's webpage at http://www.osha.gov.

Authority and Signature

Edwin G. Foulke, Jr., Assistant Secretary of Labor for Occupational Safety and Health, directed the preparation of this notice under the authority granted by section 19 of the Occupational Safety and Health Act of 1970 (29 U.S.C. 668), 5 U.S.C. 7902, section 1(c) of Executive Order 13446, 29 CFR part 1960 (Basic Program Elements of Federal Employee Occupational Safety and Health Programs), and Secretary of Labor's Order 5-2007 (72 FR 31160).

Signed at Washington, DC, this 5th day of December 2007.
Edwin G. Foulke, Jr.,
Assistant Secretary of Labor for Occupational Safety and Health.

[FR Doc. E7-23882 Filed 12-7-07; 8:45 am]

BILLING CODE 4510-26-P